COMMISSION ON CIVIL RIGHTS

Agenda and Notice of Public Meetings of the Connecticut Advisory Committee

Notice is hereby given, pursuant to the provisions of the rules and regulations of the U.S. Commission on Civil Rights (Commission), and the Federal Advisory Committee Act (FACA), that a briefing meeting and a planning meeting of the Connecticut Advisory Committee to the Commission will convene at 10:30 a.m. on Thursday, July 23, 2009 at the University of Connecticut, School of Law, Faculty Lounge, 55 Elizabeth Street, Hartford, Connecticut 06105. The purpose of the briefing meeting is to hear about anti-bias in the state. The purpose of the planning meeting is to plan a briefing on high school graduation rates.

Members of the public are entitled to submit written comments; the comments must be received in the regional office by August 21, 2009. The address is Eastern Regional Office, 624 9th St., NW., Washington, DC 20425. Persons wishing to email their comments, or who desire additional information should contact Alfreda Greene, Secretary, at 202-376-7533 or by e-mail to: ero@usccr.gov.

Hearing-impaired persons who will attend the meetings and require the services of a sign language interpreter should contact the Regional Office at least ten (10) working days before the scheduled date of the meetings.

Records generated from these meetings may be inspected and reproduced at the Eastern Regional Office, as they become available, both before and after the meetings. Persons interested in the work of this advisory committee are advised to go to the Commission's Web site, http://www.usccr.gov, or to contact the Eastern Regional Office at the above e-mail or street address.

The meetings will be conducted pursuant to the provisions of the rules and regulations of the Commission and FACA.

Dated in Washington, DC, July 6, 2009.
Peter Minarik,
Acting Chief, Regional Programs Coordination Unit.

[FR Doc. E9-16259 Filed 7-8-09; 8:45 am]

BILLING CODE 6335-01-P